DEPARTMENT OF COMMERCE

National Institute of Standards and Technology

National Conference on Weights and Measures 2011 Annual Meeting

AGENCY: National Institute of Standards and Technology, Commerce.

ACTION: Notice.

SUMMARY: The National Conference on Weights and Measures (NCWM) 2011 Annual Meeting will be held July 17 to 21, 2011. Publication of this notice on the NCWM's behalf is undertaken as a public service. The meetings are open to the public but a paid registration is required. See registration information in the SUPPLEMENTARY INFORMATION section below.

DATES: The meeting will be held on July 17 to 21, 2011.

ADDRESSES: The meeting will be held at the Holiday Inn Downtown at the Park located at 200 South Pattee in Missoula, MT 59802.

FOR FURTHER INFORMATION CONTACT: Carol Hockert, Chief, NIST, Weights and Measures Division, 100 Bureau Drive, Stop 2600, Gaithersburg, MD 20899-2600 or by telephone (301) 975-5507 or by e-mail at Carol.Hockert@nist.gov.

SUPPLEMENTARY INFORMATION: The NCWM is an organization of weights and measures officials of the states, counties, and cities, Federal agencies, and private sector representatives. These meetings bring together government officials and representatives of business, industry, trade associations, and consumer organizations on subjects related to the field of weights and measures technology, administration, test methods and enforcement. NIST attends the conference to promote uniformity among the states in laws, regulations, methods, and testing equipment that comprise the regulatory control of commercial weighing and measuring devices and other trade and commerce issues. To register for this meeting, please see the link “96 National Conference on Weights and Measures” at http://www.ncwm.net or http://www.nist.gov/owm which contains meeting agendas, registration forms and information on hotel reservations.

The following are brief descriptions of some of the significant agenda items that will be considered along with other issues at this meeting. Comments will be taken on these and other issues during several public comment sessions. See NCWM Publication 16 (Pub 16) for information on all of the issues that will be considered at this meeting. At this stage, the items are proposals. The Committees will also hold work sessions where they will finalize their recommendations for possible adoption by NCWM on July 20 to 21, 2011. The Committees may withdraw or carry over items that need additional development.

The Specifications and Tolerances Committee (S&T Committee) will consider proposed amendments to NIST Handbook 44, “Specifications, Tolerances, and other Technical Requirements for Weighing and Measuring Devices (NIST Handbook 44).” Those items address weighing and measuring devices used in commercial applications, that is, devices that are used to buy from or sell to the public or used for determining the quantity of product sold among businesses.

Items on the agenda of the NCWM Laws and Regulations Committee (L&R Committee) relate to proposals to amend NIST Handbook 130, “Uniform Laws and Regulations in the area of legal metrology and engine fuel quality” and NIST Handbook 133 “Checking the Net Contents of Packaged Goods.”

NCWM Specifications and Tolerances Committee

General Code

Item 310-2 G-S.1. Identification (Software)

This proposal is intended to amend the identification marking requirements for all electronic devices manufactured after a specified date by requiring that metrological software version or revision information be identified. Additionally, the proposal suggests listing methods, other than “permanently marked,” for providing the required information.

Item 310-3 G-A.6. Nonretroactive Requirements (Remanufactured Equipment)

This proposal is intended to clarify the intent of the 2001 NCWM position on the application of nonretroactive requirements to commercial weighing and measuring devices which have been determined to have been “remanufactured” after undergoing repair, overhaul or renovation. This proposal is intended to clarify current requirements without causing undo costs on device manufacturers, suppliers and owners.

Special Meeting Announcement: A Task Group on Retail Motor Fuel Dispenser (RMFD) Price Posting and Computer Capability will meet from 1:30 to 4 p.m. on Sunday, July 17, 2011 to develop criteria for possible inclusion in the Liquid Measuring Device Code (LMD) related to price posting and computing capability of RMFDs to reflect current market practices in posting fuel prices.

NCWM Laws and Regulations Committee

The following items are proposals to amend NIST Handbook 130:

Method of Sale of Commodities Regulation

Item 232-1. Polyethylene Products, Method of Sale Regulation Section 2.13.4. “Declaration of Weight.”—The L&R Committee will consider a proposal to revise the density value used to calculate the net weights on some packages of polyethylene products. The intent of the proposal is to recognize heavier density plastics are being used in the production of some sheeting and bag products. Accurate density values are needed for use by weights and measures inspectors in enforcing laws that require quantity declarations to be accurate. (See also related Item 260-2 under NIST Handbook 133, Chapter 4.7. Polyethylene Sheeting-Test Procedure—Footnote to Step 3 in the complete agenda of the L&R Committee in NCWM Publication 16)

Item 232-2. Proposed Method of Sale Regulation for Packages of Printer Ink and Toner Cartridges—The L&R Committee will consider recommendations to develop a proposed method of sale regulation to clarify the labeling requirements for packaged inkjet and toner cartridges to ensure that consumers can make value comparisons.

Special Meeting Announcement: The Task Group on Printer Ink and Toner Cartridges will meet on Sunday, July 17, 2011 from 1:30 to 4 p.m.

Item 232-4. HB 130, Method of Sale Regulation, Section 2.33. Vehicle Engine Oil—The L&R Committee will consider a proposal to adopt a method of sale in HB 130 related to the sale of vehicle engine oil in conjunction with oil change services. (In 237-6, which is not included in this notice) there is a corresponding proposal to amend the Fuels and Automotive Lubricants Regulation to require detailed invoicing requirements for sales of engine oil.) Some oil service facilities may not deliver the brand and viscosity of oil that they advertise. As a result consumers may pay for higher quality oil than they receive. This proposed regulation will require sellers of oil change services to provide full disclosure to consumers in a written or printed document that lists the brand name, SAE viscosity, and other information (including the oil's service category) of any engine oil delivered into the customer's vehicle.

The following items are proposals to amend NIST Handbook 133:

Item 260-2. The L&R Committee will consider a proposal to amend Chapter 4.7. Polyethylene Sheeting-Test Procedure—Footnote to Step 3 to provide density values for use by weights and measures inspectors in verifying the quantity statements on packages polyethylene sheeting and bags.

Item 260-3. Moisture Allowance for Pasta Products—The L&R Committee will consider a proposal to adopt a 3% moisture allowance for macaroni, noodle, and like products (pasta products). This value will be used by weights and measures officials in determining whether or not any shortages in the weight of packages of pasta are reasonable.

Dated: June 8, 2011.
Charles H. Romine,
Acting Associate Director for Laboratory Programs.

[FR Doc. 2011-14699 Filed 6-13-11; 8:45 am]

BILLING CODE 3510-13-P